DEPARTMENT OF DEFENSE

Office of the Secretary

Submission for OMB review; comment request

ACTION: Notice.

The Department of Defense has submitted to OMB for clearance, the following proposal for collection of information under the provisions of the Paperwork Reduction Act (44 U.S.C. Chapter 35).

DATES: Consideration will be given to all comments received by July 11, 2005.

Title, Form, and OMB Number: Request for Reference; DD Form 370; OMB Control Number 0704-0167.

Type of Reqeust: Extension.

Number of Respondents: 70,000.

Responses per Respondent: 1.

Annual Responses: 70,000.

Average Burden per Response: .167 hours (10 minutes).

Annual Burden Hours: 11,690.

Needs and Uses: Title 10 U.S.C. 504, 505, 508, and 12102, establishes minimum standards for enlistment into the Armed Forces. This information collection is for reference information on individuals applying for enlistment in the Armed Forces of the United States who require a waiver. The form associated with this information collection, DD 370, “Request for Reference,” is used by recruiters to obtain information on applicants who have admitted committing a civil or moral offense. The respondents may provide character information which would allow the applicant to be considered for a waiver and therefore continue the application process.

Affected Public: Individuals or households; business or other for-profit; Federal government; state, local or tribal government.

Frequency: On occasion.

Respondent's Obligation: Voluntary.

OMB Desk Officer: Mr. Lewis Oleinick.

Written comments and recommendations on the proposed information collection should be sent to Mr. Oleinick at the Office of Management and Budget, Desk Officer for DoD, Room 10236, New Executive Office Building, Washington, DC 20503.

DOD Clearance Officer: Ms. Patricia Toppings.Written requests for copies of the information collection proposal should be sent to Ms. Toppings, WHS/ESD Information Management Division, 1225 South Clark Street, Suite 504, Arlington, VA 22202-4326.

Dated: May 25, 2005.
Patricia L. Toppings,
Alternate OSD Federal Register Liaison Officer, Department of Defense.

[FR Doc. 05-11420 Filed 6-8-05; 8:45 am]

BILLING CODE 5001-06-M